DEPARTMENT OF LABOR

Employment and Training Administration

TA-W-73,682, Hartford Financial Services Group, Incorporated, Medical Bill Processing and Production Center Support Including On-Site Leased Workers From Beeline: Aurora, IL; TA-W-73,682A, Hartford Financial Services Group, Incorporated Medical Bill Processing and Production Center Support Including On-Site Leased Workers From Beeline: Syracuse, NY; Amended Certification Regarding Eligibility To Apply for Worker Adjustment Assistance

In accordance with Section 223 of the Trade Act of 1974, as amended (“Act”), 19 U.S.C. 2273, the Department of Labor issued a Certification of Eligibility to Apply for Worker Adjustment Assistance on June 10, 2010, applicable to workers of Hartford Financial Services Group, Incorporated, Medical Bill Processing and Production Center Support, Aurora, Illinois and Hartford Financial Services Group, Incorporated, Medical Bill Processing and Production Center Support, Syracuse, New York. The notice was published in the Federal Register on July 1, 2010 (75 FR 38137).

At the request of a company official, the Department reviewed the certification for workers of the subject firm. The workers are engaged in activities related to medical bill processing services.

The company reports that workers leased from Beeline were employed on-site at the Aurora, Illinois and Syracuse, New York locations of Hartford Financial Services Group, Incorporated, Medical Bill Processing and Production Center Support. The Department has determined that these workers were sufficiently under the control of the subject firm to be considered leased workers.

Based on these findings, the Department is amending this certification to include workers leased from Beeline working on-site at the Aurora, Illinois and Syracuse, New York locations of Hartford Financial Services Group, Incorporated, Medical Bill Processing and Production Center Support.

The amended notice applicable to TA-W-73,682 and TA-W-73,682A are hereby issued as follows:

All workers of Hartford Financial Services Group, Incorporated, Medical Bill Processing and Production Center Support, including on-site leased workers from Beeline, Aurora, Illinois (TA-W-73,682) and Hartford Financial Services Group, Incorporated, Medical Bill Processing and Production Center Support, including on-site leased workers from Beeline, Syracuse, New York (TA-W-73,682A), who became totally or partially separated from employment on or after March 10, 2009, through June 10, 2012, and all workers in the group threatened with total or partial separation from employment on the date of certification through two years from the date of certification, are eligible to apply for adjustment assistance under Chapter 2 of Title II of the Trade Act of 1974, as amended.

Signed at Washington, DC, this 14th day of July 2010.
Elliott S. Kushner,
Certifying Officer, Division of Trade Adjustment Assistance.

[FR Doc. 2010-18181 Filed 7-23-10; 8:45 am]

BILLING CODE 4510-FN-P